DEPARTMENT OF COMMERCE

International Trade Administration

[A-580-834]

Stainless Steel Sheet and Strip in Coils From the Republic of Korea: Final Results of Antidumping Duty Administrative Review; 2022-2023

AGENCY: Enforcement and Compliance, International Trade Administration, Department of Commerce.

SUMMARY: The U.S. Department of Commerce (Commerce) finds that stainless steel sheet and strip in coils from the Republic of Korea (Korea) were sold in the United States at less than normal value during the period of review (POR) July 1, 2022, through June 30, 2023.

DATES: Applicable August 12, 2024.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On April 2, 2024, Commerce published in the Federal Register the preliminary results of the 2022-2023 administrative review ¹ of the antidumping duty order on stainless steel sheet and strip in coils from Korea. The review covers the sole mandatory respondent, Korinox Co., Ltd. (Korinox). We invited interested parties to comment on the Preliminary Results.² On May 2, North American Stainless and Outokumpu Stainless USA (collectively, the domestic interested parties) submitted a case brief.³ On April 25, 2024, an interested party submitted comments on the record.⁴ On May 7, 2024, the domestic interested parties filed a rebuttal brief.⁵ Because Commerce received no comments requiring changes to the Preliminary Results, we have not modified our analysis and no decision memorandum accompanies this Federal Register notice. Accordingly, the final results are unchanged from the Preliminary Results, and we are adopting the Preliminary Results as the final results of this review. On July 22, 2024, Commerce tolled certain deadlines in this administrative proceeding by seven days. The deadline for the final results is now August 7, 2024.⁶ Commerce conducted this review in accordance with section 751(a)(1)(B) of the Tariff Act of 1930, as amended (the Act).

¹ Stainless Steel Sheet and Strip in Coils from the Republic of Korea: Preliminary Results and Rescission, in Part, of Antidumping Duty Administrative Review; 2022-2023, 89 FR 22672 (April 2, 2024) (Preliminary Results), and accompanying Preliminary Decision Memorandum.

² Id.

³ See Domestic Interested Parties' Letters, “Case Brief Submitted on Behalf of Domestic Interested Parties,” dated May 2, 2024.

⁴ Because this submission contained untimely new factual information, Commerce subsequently rejected and removed this submission from the record. See Commerce's Letter, “Rejection of Westfalia Inc.'s Submission Containing New Factual Information,” dated July 18, 2024; see also Memorandum, “Reject and Remove Submission,” dated July 18, 2024.

⁵ Because this rebuttal brief only contained comments concerning Westafalia's submission, which was removed from the record, Commerce rejected and removed the rebuttal brief from the record. See Commerce's Letter, “Rejection of North American Stainless and Outokumpu Stainless USA, LLC's Submission Containing New Factual Information,” dated July 29, 2024; see also Memorandum, “Reject and Remove Submission,” dated July 29, 2024.

⁶ See Memorandum, “Tolling of Deadlines for Antidumping and Countervailing Duty Proceedings,” dated July 22, 2024.

Scope of the Order

The products subject to the order are certain stainless steel sheet and strip in coils. For a complete description of the scope of the order, see the Preliminary Results.

Use of Adverse Facts Available

As discussed in the Preliminary Results, Commerce determined the weighted-average dumping margin for Korinox on the basis of adverse facts available, pursuant to sections 776(a) and (b) of the Act. Accordingly, because no interested parties requested changes from the Preliminary Results, we made no changes to our findings pursuant to sections 776(a) and (b) of the Act, and continue to rely entirely upon facts available with adverse inferences in the final results.

Final Results of Review

We determine the following estimated weighted-average dumping margin exists for the POR:

Exporter or producer | Weighted- average dumping margin (percent)
Korinox Co., Ltd | 58.79

Disclosure

Normally, Commerce discloses to interested parties the calculations performed in final results within five days of any public announcement or, if there is no public announcement, within five days of the date of publication of the notice of final results in the Federal Register, in accordance with 19 CFR 351.224(b). However, because we have made no changes from the Preliminary Results, there are no new calculations to disclose in accordance with 19 CFR 351.224(b) for these final results.

Assessment Rates

Pursuant to section 751(a)(2)(C) of the Act, and 19 CFR 351.212(b)(1), Commerce has determined, and U.S. Customs and Border Protection (CBP) shall assess, antidumping duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date in the Federal Register of the final results of this administrative review, as provided by section 751(a)(2)(C) of the Act: (1) the cash deposit rate for Korinox will be equal to the weighted-average dumping margin established in the final results of this administrative review (i.e., 58.79 percent); (2) for merchandise exported by a company not covered in this review but covered in a prior completed segment of the proceeding, the cash deposit rate will continue to be the company specific rate published in the completed segment for the most recent period; (3) if the exporter is not a firm covered in this review, or a previous segment, but the producer is, the cash deposit rate will be the rate established in the completed segment for the most recent period for the producer of the merchandise; and (4) the cash deposit rate for all other producers or exporters will continue to be 19.60 percent, the all others rate as revised due to a section 129 determination.⁷ These cash deposit requirements, when imposed, shall remain in effect until further notice.

⁷ See Notice of Implementation of Determination Under Section 129 of the Uruguay Round Agreements Act and Revocation of the Antidumping Duty Order on Stainless Steel Plate in Coils from the Republic of Korea; and Partial Revocation of the Antidumping Duty Order on Stainless Steel Sheet and Strip in Coils from the Republic of Korea, 76 FR 74771 (December 1, 2011).

Notification to Importers

This notice also serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

Notification to Interested Parties

We are issuing and publishing this notice in accordance with sections 751(a)(1) and 777(i)(1) of the Act, and 19 CFR 351.221(b)(5).

Dated: August 5, 2024.
Scot Fullerton,
Acting Deputy Assistant Secretary for Antidumping and Countervailing Duty Operations.

[FR Doc. 2024-17855 Filed 8-9-24; 8:45 am]

BILLING CODE 3510-DS-P